DEPARTMENT OF JUSTICE

Notice of Lodging of Proposed Settlement Agreement Resolving Proofs of Claim Under the Comprehensive Environmental Response, Compensation, and Liability Act and Other Proofs of Claim

On July 15, 2019, the Department of Justice lodged a proposed Settlement Agreement with the United States Bankruptcy Court for the Southern District of New York in the bankruptcy proceeding entitled In re Magnesium Corporation of America, et al., No. 01-14312 (MKV).

Under the Settlement Agreement, the trustee for the estates of debtors Magnesium Corporation of America and Renco Metals, Inc. has agreed to allow: (1) The United States Environmental Protection Agency's (“EPA”) proof of claim under the Comprehensive Environmental Response, Compensation, and Liability Act (“CERCLA”), 42 U.S.C. 9601-75, for unreimbursed past and future response costs in connection with US Magnesium Superfund Site (the “Site”) in Rowley, Utah, in the amount of $74,557,634.00; (2) the United States Department of the Interior's (“DOI”) proof of claim under CERCLA for unreimbursed past and future response costs in connection with the Site in the amount of $1,351,822.00; (3) DOI's proof of claim for damages under CERCLA for injuries to natural resources at and around the Site in the amount of $965,818.00; and (4) DOI's proof of claim for amounts due for unpaid rent and reclamation of land owned by the United States that MagCorp used in connection with its operations and for minerals mined from United States land without authorization in the amount of $5,156,544. The United States will receive a distribution of at least $22,886,117 on EPA's allowed claim, which will be used in connection with remediation of environmental contamination the Site. Additionally, a distribution of $5,866,825 on the claims of other settling parties, US Magnesium, LLC (the current operator of the magnesium production facility at the Site), and its parent entities, will be placed into an escrow account and used exclusively for environmental remediation at the Site. The United States will also receive a distribution of at least $5,773,485 in the aggregate on DOI's allowed claims.

The publication of this notice opens a period for public comment on the Settlement Agreement. Comments should be addressed to the Assistant Attorney General, Environment and Natural Resources Division, and should refer to In re Magnesium Corporation of America, Bankr. Case No. 01-14312 (MKV), D.J. Ref. No. 90-7-1-06980/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period the Settlement Agreement may be examined and downloaded at this Justice Department website: http://www.usdoj.gov/enrd/Consent_Decrees.html. We will provide a paper copy of the Settlement Agreement upon written request and payment of reproduction costs. Please mail your request and payment to: Consent Decree Library, U.S. DOJ—ENRD, P.O. Box 7611, Washington, DC 20044-7611.

Please enclose a check or money order for $13.25 (25 cents per page reproduction cost) payable to the United States Treasury.

Jeffrey Sands,
Assistant Chief, Environmental Enforcement Section, Environment and Natural Resources Division.

[FR Doc. 2019-15385 Filed 7-18-19; 8:45 am]

BILLING CODE 4410-15-P